FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 2, 2002.

A. Federal Reserve Bank of Cleveland (Stephen J. Ong, Vice President) 1455 East Sixth Street, Cleveland, Ohio 44101-2566:

1. Romer Family (John Romer, St. Henry, Ohio; Elizabeth Romer, St. Henry, Ohio; Albert Romer, St. Henry, Ohio; David Romer, St. Henry, Ohio; Karla Clune, St. Henry, Ohio; Kathryn Hart, Miamisburg, Ohio; Lynn Hemmelgarn, Springboro, Ohio; Rebecca, Moorman, Ottoville, Ohio; James Romer, Piqua, Ohio; Margery Romer, Piqua, Ohio; Jacqueline Romer-Sensky, Westerville, Ohio; Jeffrey Romer, Harker Heights, Texas; Timothy Romer, Vandalia, Ohio; Nancy Schroeder, Dublin, Ohio; and Douglas Romer, Westerville, Ohio); to retain voting shares of St. Henry Bank, St. Henry, Ohio.

2. Romer Family (John Romer, St. Henry, Ohio; Elizabeth Romer, St. Henry, Ohio; Albert Romer, St. Henry, Ohio; Rebecca Moorman, Ottoville, Ohio; James Romer, Piqua, Ohio; and Margery Romer, Piqua, Ohio); to acquire voting shares of The Ottoville Bank Company, Ottoville, Ohio.

Board of Governors of the Federal Reserve System, July 15, 2002.
Robert deV. Frierson,
Deputy Secretary of the Board.

[FR Doc. 02-18197 Filed 7-18-02; 8:45 am]

BILLING CODE 6210-01-S